DEPARTMENT OF THE INTERIOR

Bureau of Land Management

[LLWYP00000-L13200000-EL0000, LLWYP00000-L51100000-GA0000-LVEMK09CK320, LLWYP00000-L51100000-GA0000-LVEMK09CK340, LLWYP00000-L51100000-GA0000-LVEMK09CK370; WYW164812, WYW174596, WYW172388, WYW172685, WYW173408, WYW176095]

Notice of Availability and Notice of Hearing for the Wright Area Coal Draft Environmental Impact Statement That Includes Four Federal Coal Lease-by-Applications, WY

AGENCY: Bureau of Land Management, Interior.

ACTION: Notice of Availability.

SUMMARY: In accordance with the National Environmental Policy Act of 1969 (NEPA) and the Federal Land Policy and Management Act of 1976 (FLPMA), the Bureau of Land Management (BLM) has prepared a Draft Environmental Impact Statement (DEIS) for the Wright Area Coal project that contains four Federal coal Lease-by-Applications (LBAs), and by this Notice is announcing a public hearing requesting comments on the DEIS, on the Maximum Economic Recovery (MER), and on the Fair Market Value (FMV) of the Federal coal resources.

DATES: To ensure comments will be considered, the BLM must receive written comments on the Wright Area Coal DEIS, MER, and FMV within 60 days following June 26, 2009, the date the Environmental Protection Agency published the Notice of Availability in the Federal Register [74 FR 30570]. The public hearing will be held at 7 p.m. MST, on July 29, 2009, at the Clarion Inn, 2009 S. Douglas Hwy., Gillette, Wyoming.

ADDRESSES: You may submit comments by any of the following methods:

• E-mail: casper_wymail@blm.gov. Please include “Wright Area Coal DEIS—Sarah Bucklin” in the subject line.

• Fax: 307-261-7587, Attn: Sarah Bucklin.

• Mail: Wyoming High Plains District Office, Bureau of Land Management, Attn: Sarah Bucklin, 2987 Prospector Drive, Casper, Wyoming 82604.

• Written comments may also be hand-delivered to the BLM Wyoming High Plains District Office in Casper.

Copies of the DEIS are available at the following BLM office locations: BLM Wyoming State Office, 5353 Yellowstone Road, Cheyenne, Wyoming 82009; and BLM Wyoming High Plains District Office, 2987 Prospector Drive, Casper, Wyoming 82604. The DEIS is available electronically at the following Web site: http://www.blm.gov/wy/st/en/info/NEPA/cfodocs/WrightCoal.html.

FOR FURTHER INFORMATION CONTACT: Sarah Bucklin or Mike Karbs, BLM Wyoming High Plains District Office, 2987 Prospector Drive, Casper, Wyoming 82604. Ms. Bucklin or Mr. Karbs may also be reached at (307) 261-7600 or by e-mail at casper_wymail@blm.gov.

SUPPLEMENTARY INFORMATION: The DEIS analyzes the potential impacts of issuing leases for six Federal coal maintenance tracts serialized as WYW164812 (North Hilight Field Tract), WYW174596 (South Hilight Field Tract), WYW172388 (West Hilight Field Tract), WYW172685 (West Jacobs Ranch Tract), WYW173408 (North Porcupine Tract), and WYW176095 (South Porcupine Tract) in the decertified Powder River Federal Coal Production Region, Wyoming. The BLM is considering issuing these six coal leases as a result of four applications filed in accordance with 43 CFR part 3425 between October 2005 and September 2006. Supplementary information by tract is as follows:

North and South Hilight Field Tracts

On October 7, 2005, Ark Land Company applied for Federal coal reserves in two maintenance tracts encompassing approximately 4,590.19 acres and 588.2 million tons of coal as estimated by the applicant. The tracts are adjacent to the Black Thunder Mine operated by Thunder Basin Coal Company. BLM determined that the application would be processed as two separate tracts. The tracts are referred to as the North Hilight Field Tract, case file number WYW164812, and the South Hilight Field Tract, case file number WYW174596. As applied for, the coal in the tracts would potentially extend the life of the mine by as many as four years.

As applied for, the North Hilight Field Tract includes approximately 263.4 million tons of recoverable coal underlying the following lands in Campbell County, Wyoming:

T. 44 N., R. 70 W., 6th PM, Wyoming

Section 19: Lots 5 through 20;

T. 44 N., R. 71 W., 6th PM, Wyoming

Section 23: Lots 1 through 16;

Section 24: Lots 1 through 16;

Section 26: Lots 1 through 16.

Containing 2,613.50 acres, more or less.

As applied for, the South Hilight Field Tract includes approximately 213.6 million tons of recoverable coal underlying the following lands in Campbell County, Wyoming:

T. 43 N., R.71 W., 6th PM, Wyoming

Section 23: Lots 1 through 16;

Section 26: Lots 1 through 16;

Section 35: Lots 1 through 16.

Containing 1,976.69 acres, more or less.

West Hilight Field Tract

On January 17, 2006, Ark Land Company applied for Federal coal reserves in a maintenance tract containing approximately 2,370.52 acres and approximately 428 million tons of coal as estimated by the applicant. The tract is adjacent to the Black Thunder Mine operated by Thunder Basin Coal Company. The tract, which is referred to as the West Hilight Field Tract, has been assigned case file number WYW172388. As applied for, the coal in the tract would potentially extend the life of the mine by as many as three years.

As applied for, the West Hilight Field Tract includes approximately 377.9 million tons of recoverable coal underlying the following lands in Campbell County, Wyoming:

T. 43 N., R. 71 W., 6th PM, Wyoming

Section 8: Lots 1, 2, and 7 through 16;

Section 9: Lots 1 through 16;

Section 10: Lots 3 through 6, 11 through 14;

Section 17: Lots 1 through 16;

Section 20: Lots 1 through 4;

Section 21: Lots 3, 4.

Containing 2,370.52 acres, more or less.

West Jacobs Ranch Tract

On March 24, 2006, Jacobs Ranch Coal Company applied for Federal coal reserves in a maintenance tract containing approximately 5,944.37 acres and approximately 956 million tons of coal as estimated by the applicant. The tract is adjacent to the Jacobs Ranch Mine. The tract, which is referred to as the West Jacobs Ranch Tract, has been assigned case file number WYW172685. As applied for, the coal in the tract would potentially extend the life of the mine by as many as 17 years.

As applied for, the West Jacobs Ranch Tract includes approximately 669.6 million tons of recoverable coal underlying the following lands in Campbell County, Wyoming:

T. 43 N., R. 71 W., 6th PM, Wyoming

Section 3: Lots 2, 5 through 19;

Section 4: Lots 5 through 20;

Section 5: Lots 5 through 20;

T. 44 N., R. 71 W., 6th PM, Wyoming

Section 22: Lots 9 through 16;

Section 27: Lots 1 through 16;

Section 28: Lots 1 through 3, 5 through 16;

Section 29: Lots 5 through 15 and SE¼SE¼;

Section 32: Lots 1 through 15 and SW¼SE¼;

Section 33: Lots 1 through 15 and NE¼SE¼;

Section 34: Lots 1 through 16.

Containing 5,944.37 acres, more or less.

North and South Porcupine Tracts

On September 29, 2006, BTU Western Resources, Inc. applied for Federal coal reserves in three maintenance tracts encompassing approximately 5,116.65 acres and approximately 598 million tons of coal as estimated by the applicant. The tracts are adjacent to the North Antelope Rochelle Mine. On October 12, 2007, BTU Western Resources, Inc. filed a request with BLM to modify its application and increase the lease area and coal volume to approximately 8,981.74 acres and approximately 1,179.1 million tons of coal as estimated by the applicant. BLM determined that the modified application would be processed as two separate maintenance tracts. The tracts are referred to as the North Porcupine Tract, case file number WYW173408, and the South Porcupine Tract, case file number WYW176095. As applied for, the coal in the tracts would potentially extend the life of the mine by as many as ten years.

As applied for, the North Porcupine Tract includes approximately 601.2 million tons of recoverable coal underlying the following lands in Campbell County, Wyoming:

T. 42 N., R. 70 W., 6th PM, Wyoming

Section 19: Lots 13 through 20;

Section 20: Lots 9 through 16;

Section 21: Lots 9 through 16;

Section 22: Lots 9 through 16;

Section 26: Lots 3 through 6, 9 through 16;

Section 27: Lots 1 through 16;

Section 28: Lots 1 through 4;

Section 29: Lots 1 through 4;

Section 30: Lots 5 through 8;

T. 42 N., R. 71 W., 6th PM, Wyoming

Section 22: Lots 10 through 15, 21 through 24;

Section 23: Lots 9 through 16;

Section 24: Lots 9 through 16;

Section 25: Lots 1 through 4;

Section 26: Lots 1 through 6, 11 through 14;

Section 27: Lots 2 through 6, 9, 12, 15 through 30;

Section 34: Lots 1 through 3, 6 through 11;

Section 35: Lots 3 through 6, 11 through 14.

Containing 5,795.78 acres, more or less.

As applied for, the South Porcupine Tract includes approximately 309.7 million tons of recoverable coal underlying the following lands in Campbell County, Wyoming:

T. 41 N., R. 70 W., 6th PM, Wyoming

Section 7: Lots 7 through 10, 15 through 18;

Section 18: Lots 6 through 11, 14 through 19;

T. 41 N., R. 71 W., 6th PM, Wyoming

Section 1: Lots 5 through 20;

Section 12: Lots 1 through 16;

Section 13: Lots 1 through 16;

Section 14: Lots 1, 8, 9, 16;

Section 23: Lots 1, 8 (N½);

Section 24: Lots 2 through 4, 5 (N½), 6 (N½), 7 (N½).

Containing 3,185.96 acres, more or less.

Consistent with Federal regulations under NEPA and the Mineral Leasing Act of 1920, as amended, the BLM must prepare an environmental analysis prior to holding competitive Federal coal lease sales. The Powder River Regional Coal Team recommended that BLM process these four coal lease applications after they reviewed the tracts that were applied for by Ark Land Company and Jacobs Ranch Coal Company at a public meeting held on April 19, 2006, in Casper, Wyoming, and the tracts that were applied for by BTU Western Resources, Inc., at a public meeting held on January 18, 2007, in Casper, Wyoming.

Lands in the North Hilight Field, South Hilight Field, West Hilight Field, North Porcupine, and South Porcupine Tracts contain Federal surface administered by the Forest Service and private surface estate which overlies the Federal coal. Lands in the West Jacobs Ranch Tract contain all private surface estate which overlies the Federal coal.

Cooperating agencies in the preparation of this EIS include: The Office of Surface Mining Reclamation and Enforcement (OSM), U.S. Department of Agriculture Forest Service (USFS), Wyoming Department of Transportation, Wyoming Department of Environmental Quality (WDEQ) Land Quality and Air Quality Divisions, and the Converse County Board of Commissioners. Before the tracts can be leased, the Forest Service must consent to leasing the federal coal that is located on USFS-administered lands.

The Black Thunder Mine, Jacobs Ranch Mine, and North Antelope Rochelle Mine are operating under approved mining permits from the WDEQ Land Quality and Air Quality Divisions.

If the tracts are leased to existing mines, the new leases must be incorporated into the existing mining and reclamation plans for the adjacent mines. Before the Federal coal in each tract can be mined, the Secretary of the Interior must approve the revised Mineral Leasing Act (MLA) mining plan for the mine in which each tract will be included. OSM is the Federal agency that is responsible for recommending approval, approval with conditions, or disapproval of the revised MLA mining plan to the Office of the Secretary of the Interior.

The DEIS analyzes and discloses to the public the direct, indirect, and cumulative environmental impacts associated with leasing six Federal coal tracts in the Wyoming portion of the Powder River Basin. A copy of the DEIS has been sent to affected Federal, State, and local government agencies; persons and entities identified as potentially being affected by a decision to lease the Federal coal in each of the tracts; and persons who indicated to the BLM that they wished to receive a copy of the DEIS. The purpose of the public hearing is to solicit comments on the DEIS, on the proposed competitive sales of the six Federal coal lease maintenance tracts, and on the FMV and MER of the Federal coal.

The DEIS analyzes leasing the six Wright Area coal tracts as the Proposed Action. Under the Proposed Action, a competitive sale would be held and a lease issued for Federal coal contained in the tracts as applied for by each of the applicants. As part of the coal leasing process, the BLM is evaluating adding additional Federal coal to the tracts to avoid bypassing coal or to prompt competitive interest in unleased Federal coal in the area. The alternate tract configurations for each of the LBAs that BLM is evaluating are described and analyzed as separate alternatives in the DEIS. Under these alternatives, competitive sales would be held and leases would be issued for Federal coal lands included in tracts modified by the BLM. The DEIS also analyzes the alternative of rejecting the application(s) to lease Federal coal as the No Action Alternative. The Proposed Actions and alternatives for each of the LBAs being considered in the DEIS are in conformance with the Approved Resource Management Plan for Public Lands Administered by the Bureau of Land Management Buffalo Field Office (2001) and the USDA-Forest Service Land and Resource Management Plan for the Thunder Basin National Grassland (2002).

Requests to be included on the mailing list for this project and requests for copies of the DEIS may be sent in writing, by fax, or electronically to the addresses previously stated at the beginning of this notice. For those submitting comments on the DEIS, please make the comments as specific as possible with reference to page numbers and sections of the document. Comments that contain only opinions or preferences will not receive a formal response; however, they will be considered as part of the BLM decision-making process.

Please note that public comments and information submitted to the BLM including the commenter's name, street address, and e-mail address will be available for public review and disclosure at the above address during regular business hours (7:45 a.m. to 4:30 p.m.), Monday through Friday, except holidays.

Before including your address, phone number, e-mail address, or other personal identifying information in your comment, you should be aware that your entire comment, including your personal identifying information, may be made publicly available at any time. While you can ask us in your comment to withhold your personal identifying information from public review, we cannot guarantee that we will be able to do so.

Authority: 40 CFR 1506.6.

Mary E. Trautner,
Acting Associate State Director.

[FR Doc. E9-16048 Filed 7-7-09; 8:45 am]

BILLING CODE 4310-22-P